DEPARTMENT OF AGRICULTURE

Agricultural Marketing Service

7 CFR Parts 1005 and 1007

[AMS-DA-07-0059; AO-388-A22 and AO-366-A51; Docket No. DA-07-03-A]

Milk in the Appalachian and Southeast Marketing Areas; Correction

AGENCY: Agricultural Marketing Service, USDA.

ACTION: Correcting amendments.

SUMMARY: This document contains corrections to the regulations that were published in the March 17, 2008 Federal Register (73 FR 14153). The regulations inadvertently omitted language in § 1005.13 paragraphs (d)(3) and (d)(4), and § 1007.13 paragraphs (d)(3) and (d)(4) that provide for a zero diversion limit standard on loads of milk requesting transportation credits. This document corrects the final regulations by revising these sections.

DATES: Effective Date: May 9, 2008.

FOR FURTHER INFORMATION CONTACT: Gino M. Tosi, Associate Deputy Administrator, USDA/AMS/Dairy Programs, Order Formulation and Enforcement Branches, STOP 0231—Room 2971, 1400 Independence Avenue, SW., Washington, DC 20250-0231, (202) 690-1366, e-mail address: gino.tosi@usda.gov.

SUPPLEMENTARY INFORMATION: This document provides correcting amendments to the regulations of the Appalachian and Southeast milk marketing orders, found respectively at 7 CFR part 1005 and 7 CFR part 1007.

List of Subjects in 7 CFR Parts 1005 and 1007

Milk marketing orders.

Accordingly, 7 CFR parts 1005 and 1007 are corrected by making the following correcting amendments:

1. The authority citation for 7 CFR parts 1005 and 1007 continues to read as follows:

Authority: 7 U.S.C. 601-674, and 7253.

PART 1005—MILK IN THE APPALACHIAN MARKETING AREA

2. In § 1005.13, paragraphs (d) (3) and (4) are revised to read as follows:

§ 1005.13 Producer Milk.

* * * * *

(d) * * *

(3) The total quantity of milk so diverted during the month by a cooperative association shall not exceed 25 percent during the months of July through November, January, and February, and 35 percent during the months of December and March through June, of the producer milk that the cooperative association caused to be delivered to, and physically received at, pool plants during the month, excluding the total pounds of bulk milk received directly from producers meeting the conditions as described in § 1005.82(c)(2)(ii) and (iii), and for which a transportation credit is requested;

(4) The operator of a pool plant that is not a cooperative association may divert any milk that is not under the control of a cooperative association that diverts milk during the month pursuant to paragraph (d) of this section. The total quantity of milk so diverted during the month shall not exceed 25 percent during the months of July through November, January, and February, and 35 percent during the months of December and March through June, of the producer milk physically received at such plant (or such unit of plants in the case of plants that pool as a unit pursuant to § 1005.7(d)) during the month, excluding the quantity of producer milk received from handler described in § 1000.9(c) and excluding the total pounds of bulk milk received directly from producers meeting the conditions as described in § 1005.82 (c)(2)(ii) and (iii), and for which a transportation credit is requested.

* * * * *

PART 1007—MILK IN THE SOUTHEAST MARKETING AREA

3. In § 1007.13, paragraphs (d)(3) and (4) are revised to read as follows:

§ 1007.13 Producer milk.

* * * * *

(d) * * *

(3) The total quantity of milk so diverted during the month by a cooperative association shall not exceed 25 percent during the months of July through November, January, and February, and 35 percent during the months of December and March through June, of the producer milk that the cooperative association caused to be delivered to, and physically received at, pool plants during the month, excluding the total pounds of bulk milk received directly from producers meeting for conditions as described in § 1007.82(c)(2)(ii) and (iii), and for which a transportation credit is requested;

(4) The operator of a pool plant that is not a cooperative association may divert any milk that is not under the control of a cooperative association that diverts milk during the month pursuant to paragraph (d) of this section. The total quantity of milk so diverted during the month shall not exceed 25 percent during the months of July through November, January, and February, and 35 percent during the months of December and March through June of the producer milk physically received at such plant (or such unit of plants in the case of plants that pool as a unit pursuant to § 1007.7(e)) during the month, excluding the quantity of producer milk received from a handler described in § 1000.9(c), excluding the total pounds of bulk milk received directly from producers meeting for conditions as described in § 1007.82(c)(2)(ii) and (iii), and for which a transportation credit is requested;

* * * * *

Dated: May 6, 2008.
Lloyd C. Day,
Administrator, Agricultural Marketing Service.

[FR Doc. 08-1239 Filed 5-6-08; 2:32 pm]

BILLING CODE 3410-02-P